DEPARTMENT OF COMMERCE

International Trade Administration

[A-549-812]

Furfuryl Alcohol from Thailand; Final Results of the Second Sunset Review of the Antidumping Duty Order and Revocation of the Order

AGENCY: Import Administration, International Trade Administration, Department of Commerce.

SUMMARY: The Department of Commerce (“the Department”) has conducted a full sunset review of the antidumping duty order on furfuryl alcohol from Thailand pursuant to section 751(c) of the Tariff Act of 1930, as amended (“the Act”). As a result of this review, the Department finds that revocation of the antidumping duty order would not likely lead to the continuation or recurrence of dumping. Therefore, pursuant to section 751(d)(2) of the Act and 19 CFR 351.222(i)(1)(ii), the Department is revoking the antidumping duty order on furfuryl alcohol from Thailand.

EFFECTIVE DATE: March 5, 2007.

FOR FURTHER INFORMATION CONTACT: Audrey R. Twyman, Damian Felton, or Brandon Farlander, AD/CVD Operations, Office 1, Import Administration, International Trade Administration, U.S. Department of Commerce, 14th Street & Constitution Avenue, NW., Washington, DC, 20230; telephone: 202-482-3534, 202-482-0133, and 202-482-0182, respectively.

SUPPLEMENTARY INFORMATION:

Background

On October 26, 2006, the Department published a notice of preliminary results of the full sunset review of the antidumping duty order on furfuryl alcohol from Thailand pursuant to section 751(c) of the Act. See Furfuryl Alcohol from Thailand; Preliminary Results of the Second Sunset Review of the Antidumping Duty Order, 71 FR 62583 (October 26, 2006) (“Preliminary Results”).

The Department conducted a verification of the data provided by Indorama Chemicals (Thailand) Ltd. (“Indorama”) on December 19 and 20, 2006. The verification report was issued on January 3, 2007.

We provided interested parties an opportunity to comment on our preliminary results. The Department received a case brief from Penn Specialty Chemicals, Inc. (“Penn”) on January 16, 2007, and a rebuttal brief from Indorama on January 22, 2007. A hearing was not held because none was requested.

Scope of the Order

The merchandise covered by this order is furfuryl alcohol (C4H3OCH2OH). Furfuryl alcohol is a primary alcohol, and is colorless or pale yellow in appearance. It is used in the manufacture of resins and as a wetting agent and solvent for coating resins, nitrocellulose, cellulose acetate, and other soluble dyes. The product subject to this order is classifiable under subheading 2932.13.00 of the Harmonized Tariff Schedule of the United States (“HTSUS''). Although the HTSUS subheading is provided for convenience and customs purposes, our written description of the scope of this proceeding is dispositive.

Analysis of Comments Received

All issues raised in this sunset review are addressed in the “Issues and Decision Memorandum for the Second Sunset Review of the Antidumping Duty Order on Furfuryl Alcohol from Thailand; Final Results,” to David M. Spooner, Assistant Secretary for Import Administration, dated February 27, 2007 (“Decision Memo”), which is hereby adopted by this notice. The issues discussed in the Decision Memo include the likelihood of continuation or recurrence of dumping and the magnitude of the margin likely to prevail if the antidumping duty order were revoked. Parties can find a complete discussion of all issues raised in this sunset review and the corresponding recommendations in this public memorandum, which is on file in room B-099 of the main Department building. In addition, a complete version of the Decision Memo can be accessed directly on the Web at http://ia.ita.doc.gov/frn/index.html. The paper copy and electronic version of the Decision Memo are identical in content.

Final Results of Review and Revocation

The Department determines that revocation of the antidumping duty order on furfuryl alcohol from Thailand is not likely to lead to a continuation or recurrence of dumping. Consequently, the Department is revoking the antidumping duty order on furfuryl alcohol from Thailand, pursuant to section 751(d)(2) of the Act and 19 CFR 351.222(i)(1)(ii). Consistent with 19 CFR 351.222(i)(2)(i) and section 751(c)(6)(A)(iii) of the Act, this revocation will be effective May 4, 2006, the fifth anniversary of the date of publication in the Federal Register of the notice of continuation. See Notice of Continuation of Antidumping Duty Orders: Furfuryl Alcohol from the People's Republic of China and Thailand, 66 FR 22519 (May 4, 2001).

We will notify the U.S. International Trade Commission (“ITC”) of our final results. We do not intend, however, to report a rate to the ITC as a determination by the Department that revocation of the order would not lead to a continuation or recurrence of dumping will result in revocation of the order.¹ Moreover, the ITC has already ruled in this proceeding.

¹Contrary to the ITC's statement that the order on furfuryl alcohol from Thailand remains in place, the Department's sunset determination in this proceeding will, in fact, result in the order being revoked. See ITC News Release 06-093 (September 1, 2006) concerning Inv. Nos. 731-TA-703 and 705 (Second Review).

The Department will instruct U.S. Customs and Border Protection to liquidate without regard to dumping duties entries of the subject merchandise entered or withdrawn from warehouse for consumption on or after May 4, 2006, (the effective date), and to discontinue collection of cash deposits of antidumping duties.

This sunset review and notice are in accordance with sections 751(c), 752, and 777(i)(1) of the Act. This notice serves as a final reminder to parties subject to administrative protective order (“APO”) of their responsibility concerning the disposition of proprietary material disclosed under APO in accordance with 19 CFR 351.305. Timely notification of return/destruction of APO materials or conversion to judicial protective order is hereby requested. Failure to comply with the regulations and the terms of an APO is a sanctionable violation.

Dated: February 27, 2007.
David M. Spooner,
Assistant Secretary for Import Administration.

[FR Doc. E7-3792 Filed 3-2-07; 8:45 am]

BILLING CODE 3510-DS-S